DEPARTMENT OF STATE

[Public Notice 7244]

30-Day Notice of Proposed Information Collection: Form DS-3057, Medical Clearance Update, OMB 1405-0131

ACTION: Notice of request for public comments.

SUMMARY: The Department of State is seeking Office of Management and Budget (OMB) approval for the information collection described below. The purpose of this notice is to allow 30 days for public comment in the Federal Register preceding submission to OMB. We are conducting this process in accordance with the Paperwork Reduction Act of 1995.

• Title of Information Collection: Medical Clearance Update.

• OMB Control Number: 1405-0131.

• Type of Request: Extension of Currently Approved Collection.

• Originating Office: Office of Medical Services, M/MED/C/MC.

• Form Number: DS-3057.

• Respondents: Foreign Service Officers, State Department Employees, Other Government Employees and Family Members.

• Estimated Number of Respondents: 9,800 per year.

• Estimated Number of Responses: 9,800 per year.

• Average Hours per Response: 30 minutes per response.

• Total Estimated Burden: 4,900 hours.

• Frequency: On occasion.

• Obligation to Respond: Mandatory.

DATES: Submit comments to the Office of Management and Budget (OMB) for up to 30 days from December 2, 2010.

ADDRESSES: Direct comments and questions to Katherine Astrich, the Department of State Desk Officer in the Office of Information and Regulatory Affairs at the Office of Management and Budget (OMB), who may be reached at 202-395-4718. You may submit comments by any of the following methods: E-mail: kastrich@omb.eop.gov. You must include the DS form number, information collection title and OMB control number in the subject line of your message.

Mail (paper, disk or CD-ROM submissions): Office of Information and Regulatory Affairs, Office of Management and Budget 725 17th Street NW., Washington, DC 20503. Fax: 202-395-6974.

FOR FURTHER INFORMATION CONTACT: Direct requests for additional information regarding the collection listed in this notice, including requests for copies of the proposed information collection and supporting documents, to Barbara Mahoney, Department of State, Office of Medical Clearances, SA-15 Room 400, 1800 North Kent St., Rosslyn, VA 22209. PHONE 703-875-5413 and FAX 703-875-4850.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-3057 is designed to collect medical information to provide medical providers with current and adequate information to base decisions on whether a federal employee and family members will have sufficient medical resources at a diplomatic mission abroad to maintain the health and fitness of the individual and family members.

Methodology:

The information collected will be collected through the use of an electronic forms engine or by hand written submission using a pre-printed form.

Dated: November 22, 2010.
Barbara Mahoney,
MED Clearance Chief, Office of Medical Services.

[FR Doc. 2010-30292 Filed 12-1-10; 8:45 am]

BILLING CODE 4710-36-P